DEPARTMENT OF VETERANS AFFAIRS

Advisory Committee on Homeless Veterans; Notice of Meeting

The Department of Veterans Affairs (VA) gives notice under Public Law 92-463 (Federal Advisory Committee Act) that the Advisory Committee on homeless Veterans will hold it's first meeting from Monday, June 3, 2002 through Wednesday, June 5, 2002, at the Ronald Reagan Building, in Rooms Meridian D & E, 1300 Pennsylvania Avenue, NW., Washington, DC. The meeting will convene daily at 8:30 a.m. and conclude Monday and Tuesday at 4:30 p.m. and Wednesday at 11:45 a.m. The meeting is open to the public.

The purpose of the Committee is to advise the Secretary of Veterans Affairs on the effectiveness of the policies, organizational structures, and services of the Department in assisting homeless veterans. The Committee shall assemble and review information relating to the needs of homeless veterans and provide advice on the most appropriate means of providing assistance to homeless veterans. The Committee will make recommendations to the Secretary regarding such activities.

On June 3, the Committee will convene its opening session with discussions on the mission and objectives of the Committee, an ethics briefing, and presentations on programs offered by the Veterans Health Administration. On June 4, the Committee will receive briefings from the Veterans Benefit Administration, the Veterans Health Administration, the National Cemetery Administration as well as information regarding other Federal programs that assist homeless veterans. On June 5, the Committee will conclude with a review of previous presentations and a discussion of action items for the Committee.

Those wishing to attend the meeting should contact Mr. Pete Dougherty, Department of Veterans Affairs, at (202) 273-5764. No time will be allocated for receiving oral presentations from the public. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: April 29, 2002.
By direction of the Secretary.
Nora E. Egan,
Committee Management Officer.

[FR Doc. 02-11238 Filed 5-6-02; 8:45 am]

BILLING CODE 8320-01-M